DEPARTMENT OF VETERANS AFFAIRS

[OMB Control No. 2900-0741]

Agency Information Collection Activity: Department of Veterans Affairs; Office of Small and Disadvantaged Business Utilization VA Form 0896A

AGENCY: The Office of Management (OM), Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before September 28, 2020.

ADDRESSES: Submit written comments on the collection of information through Federal Docket Management System (FDMS) at www.Regulations.gov or to Elizabeth (Beth) Torres, Deputy Director for Executive Actions, Acquisition Policy Office of Small and Disadvantaged Business Utilization, Department of Veterans Affairs, 810 Vermont Avenue NW, Washington, DC 20420 or email to Elizabeth.torres@va.gov. Please refer to “OMB Control No. 2900-0741” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OM invites comments on: (1) Whether the proposed collection of information is necessary for the proper performance of OM functions, including whether the information will have practical utility; (2) the accuracy of OM estimate of the burden of the proposed collection of information; (3) ways to enhance the quality, utility, and clarity of the information to be collected; and (4) ways to minimize the burden of the collection of information on respondents, including through the use of automated collection techniques or the use of other forms of information technology.

Authority: Under the PRA of 1995 (Pub. L. 104-13; 44 U.S.C. 3501-3521).

Title: Department of Veterans Affairs, Office of Small and Disadvantaged Business Utilization, VA Form 0896A.

OMB Control Number: 2900-0741.

Type of Review: Reinstatement with changes of a currently expired approved collection.

Abstract: This Paperwork Reduction Act (PRA) submission seeks reinstatement with changes of Office of Management and Budget (OMB) approval No. 2900-0741 as follows: Due to the increased number of respondents, the total annual burden hours increased by 400, from 610 to 1,010. However, the average burden time per response has not changed.

The VA Form 0896A, Report of Subcontracts to Small and Veteran-owned Business is utilized to ensure that subcontract information reported by prime contractors and utilized for credit against subcontracting goals is accurate and includes Service Disabled Veteran Owned Small Business, (SDVOSB) and Veteran Owned Small Business, (VOSB) that are verified for eligibility in the Vender Information Pages database maintained by VA OSDBU. This process involves the use of electronic submissions of information via email. Contractors will submit information on VA Form 0896A. In the event that a contractor does not have the capability to submit the form as an email attachment, it can also be provided as a hardcopy. VA OSDBU personnel will confirm the information reported on the form by the prime contractors through the VA's vendor Information Pages and FSRS databases and, when necessary, request that the SDVOSB and VOSB firms subcontracted by the prime contractors review it and verify its accurate. The OSDBU will utilize the information reported by the prime contractors, the FSRS, and any subcontractors in order to compile annual reports to reflect the level of accuracy in the reporting being accomplished by the prime contractors. This will allow the VA to comply with the “review mechanism” requirement of Public Law 109-461.

Affected Public: Business or other for-profit and not-for-profit institutions.

Estimated Annual Burden: 1,010 Burden Hours.

Estimated Average Burden per Respondent: 120 Minutes.

Frequency of Response: Annually.

Estimated Number of Respondents: 505.

By direction of the Secretary.
Danny S. Green,
Department Clearance Officer, Office of Quality, Performance and Risk, Department of Veterans Affairs.

[FR Doc. 2020-16503 Filed 7-29-20; 8:45 am]

BILLING CODE 8320-01-P